Proclamation 9014 of September 6, 2013

National Days of Prayer and Remembrance, 2013

By the President of the United States of America

A Proclamation

This week, Americans come together to mark the 12th anniversary of a day that shook our country to its core. Where two towers once cast a shadow, men and women gather in the early light to pay their respects. In a Pennsylvania field once scarred by debris, bells ring out and fingers trace over names etched in white marble. At the Pentagon, where a single stone still bears the scars of fire, a Nation honors souls who now know peace.

On this anniversary, images of darkness are never far from our thoughts. We remember planes cutting through a clear September sky, black smoke rising from the ruins below. These images will never leave us. But Scripture teaches us that light shines even in the darkness, and the darkness has not overcome it.

When the first calls for help reached squad cars, ambulances, and ladder companies, there was no hesitation. First responders rushed to the scene. They stormed up the stairs and into the flames. Aboard Flight 93, heroic passengers and crew members gave everything they had to prevent even more devastation.

Their legacy lives on in those they saved and in the memories we keep. Most of all, it lives on in the spirit they embodied: compassion, resilience, unity. Many of those we lost set aside their own well-being in the hope they could save someone they would never know.

That selflessness shows the best of who we are as a people. And for more than a decade, that same selflessness has summoned a new generation to serve in our Armed Forces. These solemn days also call upon us to reflect on their extraordinary service and sacrifice and to rededicate ourselves to showing our troops, our veterans, and their families the fullest support of a grateful Nation.

Finally, as we honor those who have borne so much since 9/11, let us turn our thoughts once again toward renewal. When shock and confusion could have torn us apart, we chose instead to move forward together, as one people. We have proven our resilience. We have recovered and rebuilt, better and brighter. We have kept faith with our oldest American beliefs. Years from now, these acts will reveal the true legacy of that day—of a safer world, a stronger Nation, and a country more united than ever before.

NOW, THEREFORE, I, BARACK OBAMA, President of the United States of America, by virtue of the authority vested in me by the Constitution and the laws of the United States, do hereby proclaim Friday, September 6 through Sunday, September 8, 2013, as National Days of Prayer and Remembrance. I ask that the people of the United States honor and remember the victims of September 11, 2001, and their loved ones through prayer, contemplation, memorial services, the visiting of memorials, the ringing of bells, evening candlelight remembrance vigils, and other appropriate ceremonies and activities. I invite people around the world to participate in this commemoration.

IN WITNESS WHEREOF, I have hereunto set my hand this sixth day of September, in the year of our Lord two thousand thirteen, and of the Independence of the United States of America the two hundred and thirty-eighth.

[FR Doc. 2013-22274

Filed 9-10-13; 11:15 am]

Billing code 3295-F3